DEPARTMENT OF STATE

[Delegation of Authority No. 458]

Delegation of Authority to the Under Secretary of State for Arms Control and International Security To Concur With the Use of Security Assistance for Baltic Nations for a Joint Program for Interoperability and Deterrence Against Aggression

By virtue of the authority vested in the Secretary of State, including section 1 of the State Department Basic Authorities Act (22 U.S.C. 2651a) and section 1279D of the National Defense Authorization Act for Fiscal Year 2018 (Pub. L. 115-91) (FY 2018 NOAA), I hereby delegate to the Under Secretary of State for Arms Control and International Security, to the extent authorized by law, the authority to concur with the Secretary of Defense's use of the authority to provide security assistance for Baltic nations for a joint program for interoperability and deterrence against aggression, pursuant to section 1279D of the FY 2018 NDAA.

Notwithstanding this delegation of authority, any function or authority delegated herein may be exercised by the Secretary or the Deputy Secretary. Any reference in this delegation of authority to any statute shall be deemed to be a reference to such statute as amended from time to time, and shall be deemed to apply to any provision of law that is the same or substantially the same as such statute.

This delegation of authority shall be published in the Federal Register.

Dated: August 21, 2018.
Michael R. Pompeo,
Secretary of State.

[FR Doc. 2018-20057 Filed 9-13-18; 8:45 am]

BILLING CODE 4710-25-P